DEPARTMENT OF THE INTERIOR

Bureau of Land Management

[MT-070-1610-DO-030E]

Notice of Intent To Prepare a Resource Management Plan for the Butte Field Office and Associated Environmental Impact Statement

AGENCY: Butte Field Office, Bureau of Land Management, Interior.

ACTION: Notice of Intent to prepare a Resource Management Plan (RMP) for the Butte Field Office and associated Environmental Impact Statement (EIS).

SUMMARY: This document provides notice that the Bureau of Land Management (BLM) intends to prepare an RMP with an associated EIS for the Butte Field Office. The planning area is located in Beaverhead, Broadwater, Deer Lodge, Gallatin, Jefferson, Lewis and Clark, Park, and Silver Bow Counties, Montana. The plan will fulfill the needs and obligations set forth by the National Environmental Policy Act (NEPA), the Federal Land Policy and Management Act (FLPMA), and BLM management policies. The BLM will work collaboratively with interested parties to identify the management decisions that are best suited to local, regional, and national needs and concerns. The public scoping process will identify planning issues and develop planning criteria, including an evaluation of the existing RMP in the context of the needs and interests of the public.

DATES: This notice initiates the public scoping process. Formal scoping will end February 17, 2004; however, collaboration with the public will continue throughout the process. Comments on issues and planning criteria can be submitted in writing to the address listed below. All public meetings will be announced through the local news media, newsletters, and the BLM Web site (http://www.mt.blm.gov/bdo) at least 15 days prior to the event. The minutes and list of attendees for each meeting will be available to the public and open for 30 days to any participant who wishes to clarify the views they expressed.

Public Participation: Public meetings will be held throughout the plan scoping and preparation period. In order to ensure local community participation and input, public meeting locations will be rotated among the towns of Boulder, Bozeman, Butte, Helena, Townsend, and Wise River. Early participation is encouraged and will help determine the future management of the Butte Field Office public lands. In addition to the ongoing public participation process, formal opportunities for public participation will be provided upon publication of the BLM Draft RMP/EIS.

ADDRESSES: Written comments should be sent to Bureau of Land Management, Ruth Miller, RMP Project Manager, Butte Field Office, 106 North Parkmont, Butte, MT, 59701; Fax;—(406) 533-7660. Documents pertinent to this proposal may be examined at the Butte Field Office. Comments, including names and street addresses of respondents, will be available for public review at the Butte Field Office during regular business hours 7:45 a.m. to 4:30 p.m., Monday through Friday, except holidays, and may be published as part of the EIS. Individual respondents may request confidentiality. If you wish to withhold your name or street address from public review or from disclosure under the Freedom of Information Act, you must state this prominently at the beginning of your written comments. Such requests will be honored to the extent allowed by law. All submissions from organizations and businesses, and from individuals identifying themselves as representatives or officials of organizations or businesses, will be available for public inspection in their entirety.

FOR FURTHER INFORMATION CONTACT: Ruth Miller, on (406) 533-7645, Bureau of Land Management, RMP Project Manager, Butte Field Office, 106 North Parkmont, Butte, MT, 59701.

SUPPLEMENTARY INFORMATION: The lands within the Butte Field Office are currently being managed according to the 1984 Headwaters RMP. In 1983, while the Headwaters RMP was being developed, the Butte and Lewistown Districts (now called Field Offices) adjusted their jurisdictional boundaries (as well as the Dillon Resource Area and Headwaters Resource Area within the Butte District). This resulted in lands covered by the Headwaters RMP being managed by both Districts.

The BLM lands in the following areas are now being managed by the Lewistown Field Office and will not be covered in the Butte RMP process: Pondera, Teton, Cascade, Meagher, and the north half of Lewis and Clark County. Also, the BLM lands within Silver Bow and Deerlodge Counties (and a small portion of Beaverhead County along the Big Hole River) were included in the Dillon Resource Area Management Framework Plan (MFP) of 1979 and will now be covered in this Butte RMP revision.

Because this RMP will follow the existing Butte Field Office boundary, the name of the RMP will be the Butte RMP. This will help separate the new document from the existing Headwaters RMP, and from the Lewistown portion that will still be managed under the Headwaters RMP until its revision.

The RMP revision to be prepared for the public lands administered by the Butte Field Office will identify goals, objectives, standards and guidelines for management of a variety of resources and values. The plan will specify actions, constraints, and general management practices necessary to achieve desired conditions. The plan will also identify any areas requiring special management such as ACECs. The scope of the RMP will be comprehensive. Certain existing standards and guidelines and other BLM plans will be incorporated into the RMP.

The changing needs and interests of the public necessitate a revision to the Butte Field Office RMP. Preliminary issues and management concerns have been identified by BLM personnel, other agencies, and in meetings with individuals and user groups. They represent the BLM's knowledge to date on the existing issues and concerns with current management. The major issue themes that will be addressed in the RMP effort include: (1) Management of vegetation; (2) conservation and recovery of special status species; (3) water quality, quantity, and aquatic species; (4) travel management and access to public lands; (5) management of areas with special values; (6) availability and management of public lands for commercial uses; and (7) land tenure adjustments.

After gathering public comments on what issues the plan should address, the suggested issues will be placed in one of three categories:

1. Issues to be resolved in the plan;

2. Issues resolved through policy or administrative action; or

3. Issues beyond the scope of this plan.

Rationale will be provided for each issue placed in categories two or three. In addition to these major issues, a number of management questions and concerns will be addressed in the plan. The public is encouraged to help identify these questions and concerns during the scoping phase.

An interdisciplinary approach will be used to develop the plan in order to consider the variety of resource issues and concerns identified. Disciplines involved in the planning process will include specialists with expertise in minerals and geology, forestry, range, fire and fuels, outdoor recreation, archaeology, paleontology, wildlife and fisheries, lands and realty, hydrology, soils, sociology and economics.

The following planning criteria have been proposed to guide development of the plan, avoid unnecessary data collection and analyses, and to ensure the plan is tailored to the issues. Other criteria may be identified during the public scoping process. After gathering comments on planning criteria, the BLM will finalize the criteria and provide feedback to the public on the criteria to be used throughout the planning process.

• The plan will be completed in compliance with FLPMA and all other applicable laws.

• The planning process will include an EIS that will comply with NEPA standards.

• The plan will establish new guidance and identify existing guidance upon which the BLM will rely in managing public lands within the Butte Field Office.

• The RMP/EIS will incorporate by reference the Standards for Rangeland Health and Guidelines for Livestock Grazing Management, the Off-Highway Vehicle EIS and Plan Amendment for Montana, North Dakota, and Portions of South Dakota; and, when signed, the Montana/Dakotas Statewide Fire Management Plan.

• The RMP/EIS will incorporate by reference all prior Wilderness designations and Wilderness Study Area findings that affect public lands in the planning area.

• The plan will result in determinations as required by special program and resource specific guidance detailed in Appendix C of the BLM's Planning Handbook.

• The plan will recognize the State's responsibility to manage wildlife populations, including uses such as hunting and fishing, within the planning area.

• Decisions in the plan will strive to be compatible with the existing plans and policies of adjacent local, State, tribal, and Federal agencies as long as the decisions are in conformance with legal mandates on management of public lands.

• The scope of analysis will be consistent with the level of analysis in approved plans and in accordance with Bureau-wide standards and program guidance.

• Resource allocations must be reasonable and achievable within available technological and budgetary constraints.

• The lifestyles and concerns of area residents will be recognized in the plan.

The BLM is also requesting public input for nominations considered worthy of ACEC designation. To be considered as a potential ACEC, an area must meet the criteria of relevance and importance as established and defined in 43 CFR 1610.7-2. Nominations must include descriptive materials, detailed maps, and evidence supporting the “relevance” and “importance” of the resource or area. There is currently one ACEC within the Butte FO boundary; the Sleeping Giant ACEC in Lewis and Clark County was designated by the Headwaters RMP in 1984. All ACEC nominations within the planning area will be evaluated during development of the RMP.

Dated: September 12, 2003.
Richard M. Hotaling,
Field Office Manager.

[FR Doc. 03-28963 Filed 12-18-03; 8:45 am]

BILLING CODE 4310-$$-P